NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Andrew Titmus, ACA Permit Officer, Office of Polar Programs, National Science Foundation, 2415 Eisenhower Avenue, Alexandria, VA 22314; 603-292-4479; email: ACApermits@nsf.gov.

SUPPLEMENTARY INFORMATION: On June 18, 2024, the National Science Foundation published a notice in the Federal Register of permit applications received. The permits were issued on the following dates:

1. Link Olson, Permit No. 2025-001, July 19, 2024

2. Jesse Naiman, Permit No. 2025-002, July 30, 2024

On June 26, 2024, the National Science Foundation published a notice in the Federal Register of permit applications received. The permits were issued on the following dates:

1. Birgitte McDonald, Permit No. 2025-003, July 30, 2024

Kimiko S. Bowens-Knox,
Program Analyst, Office of Polar Programs.

[FR Doc. 2024-17436 Filed 8-6-24; 8:45 am]

BILLING CODE 7555-01-P